ENVIRONMENTAL PROTECTION AGENCY

[EPA-R04-OW-2007-1051; FRL-8538-9]

Public Water System Supervision Program Revisions for the State of South Carolina

AGENCY: Environmental Protection Agency (EPA).

ACTION: Notice of tentative approval.

SUMMARY: Notice is hereby given that the State of South Carolina is revising their Public Water System Supervision (PWSS) program to meet the requirements of the Safe Drinking Water Act (SDWA). South Carolina Department of Health and Environmental Control adopted drinking water regulations for the Long Term 2 Surface Water Treatment and the Stage 2 Disinfection By-Products Rules. EPA has determined that these revisions are no less stringent than the corresponding federal regulations. Therefore, EPA intends to approve South Carolina's PWSS program for these rules.

DATES: All interested parties may request a public hearing and/or submit comments within thirty (30) days of the Federal Register publication date to the Regional Administrator at the address shown below. Frivolous or insubstantial requests for a public hearing may be denied by the Regional Administrator. However, if a substantial request for a public hearing is made within the 30 days, a public hearing will be held. If no timely and appropriate request is received, and the Regional Administrator does not elect to hold a hearing on his/her own motion, this determination shall become final and effective 30 days after the publication of this notice.

ADDRESSES: All documents relating to this determination are available for inspection between the hours of 8:30 a.m. and 4:30 p.m., Monday through Friday, excluding federal holidays, at U.S. Environmental Protection Agency, Region 4, Water Management Division, Ground Water and Drinking Water Branch, Drinking Water Section, 61 Forsyth Street, SW., Atlanta, GA 30303. For documents specific to this State: South Carolina Department of Health & Environmental Control, Bureau of Water, 2600 Bull Street, Columbia, SC 29201.

You may also submit your comments, identified by Docket ID No. EPA-R04-OW-2007-1051, in one of the following methods:

1. http://www.regulations.gov: Follow the on-line instructions for submitting comments.

2. E-mail: morris.janine@epa.gov.

3. Fax: (404) 562-9439.

Instructions: Direct your comments to Docket ID No. EPA-R04-OW-2007-1051. EPA's policy is that all comments received will be included in the public docket without change and may be made available online at http://www.regulations.gov, including any personal information provided, unless the comment includes information claimed to be Confidential Business Information (CBI) or other information whose disclosure is restricted by statute. Do not submit through http://www.regulations.gov or e-mail, information that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the electronic docket are listed in the http://www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the U.S. Environmental Protection Agency, Region 4 office.

FOR FURTHER INFORMATION CONTACT: Ms. Morris, Drinking Water Section, at (404) 562-9480, or morris.janine@epa.gov.

Authority: Section 1442 of the Safe Drinking Water Act as amended in 1996 and the National Primary Drinking Water Regulations in 40 CFR part 142.

Dated: February 22, 2008.
J. I. Palmer, Jr.,
Regional Administrator, Region 4.

[FR Doc. E8-4351 Filed 3-5-08; 8:45 am]

BILLING CODE 6560-50-P